DEPARTMENT OF COMMERCE

National Oceanic and Atmospheric Administration

RIN 0648-XD657

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of Golden Crab Advisory Panel (AP) in Dania Beach, FL. See SUPPLEMENTARY INFORMATION.

DATES: The meeting will take place January 23, 2015. See SUPPLEMENTARY INFORMATION.

ADDRESSES: The meeting will be held at the Fairfield Inn & Suites Fort Lauderdale Airport & Cruise Port, 2081 Griffin Road. Dania Beach, FL 33312; telephone: (954) 981-2700; fax: (954) 981-9125.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: Members of the Golden Crab AP will meet from 10 a.m. until 5 p.m. on January 23, 2015. The AP members will discuss modifications to the Golden Crab Allowable Fishing Zones.

Special Accommodations

The meeting is physically accessible to people with disabilities. Requests for auxiliary aids should be directed to the council office (see ADDRESSES) 3 days prior to the meeting.

Note: The times and sequence specified in this agenda are subject to change.

Dated: December 9, 2014.
Tracey L. Thompson,
Acting Deputy Director, Office of Sustainable Fisheries, National Marine Fisheries Service.

[FR Doc. 2014-29167 Filed 12-11-14; 8:45 am]

BILLING CODE 3510-22-P